DEPARTMENT OF COMMERCE

International Trade Administration

[A-570-853]

Notice of Amended Final Results of Antidumping Duty Administrative Review: Bulk Aspirin from the People's Republic of China

AGENCY: Import Administration, International Trade Administration, Department of Commerce.

ACTION: Notice of amended final results of antidumping duty administrative review.

EFFECTIVE DATE: March 13, 2003.

FOR FURTHER INFORMATION CONTACT: Julie Santoboni or Cole Kyle, Office 1, AD/CVD Enforcement, Import Administration, International Trade Administration, U.S. Department of Commerce, 14th Street and Constitution Avenue, NW., Washington DC 20230; telephone (202) 482-4194 or (202) 482-1503, respectively.

Scope of Review

The product covered by this review is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula C9H8O4. It is defined by the official monograph of the United States Pharmacopoeia (“USP”) 23. It is classified under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of bulk aspirin and active substances as published in the Handbook of Nonprescription Drugs, eighth edition, American Pharmaceutical Association. This product is classified under HTSUS subheading 3003.90.0000. Although the HTSUS subheadings are provided for convenience and customs purposes, the written description of the merchandise under investigation is dispositive.

Amended Final Results

On February 4, 2003, the Department of Commerce (“the Department”) determined that bulk aspirin from the People's Republic of China (“PRC”) is not being sold in the United States at less than normal value, as provided in section 751(a) of the Tariff Act of 1930, as amended (“the Act”). See Bulk Aspirin from the People's Republic of China; Final Results of Antidumping Duty Administrative Review (“Final Results”), 68 FR 6710 (February 10, 2003). On February 7 and 10, 2003, Shandong Xinhua Pharmaceutical Co., Ltd. (“Shandong”) and Rhodia, Inc. (“petitioner”), respectively, filed timely ministerial error allegations pursuant to 19 CFR 351.224(c)(2). On February 12, 2003 the petitioner filed a reply to Shandong's allegation and on February 18, 2003, Shandong filed a response to the petitioner's February 12, 2003 submission. The other respondent in this review, Jilin Henghe Pharmaceutical Company Ltd. (“Jilin”), did not file a ministerial error allegation.

The petitioner contends that the Department incorrectly rounded one of the surrogate values for caustic soda, incorrectly deducted taxes from the domestic price of acetic acid sold on the Mumbai Dyes Market and assigned the incorrect surrogate labor value for packing labor in Jilin's normal value calculations. The petitioner also alleges that the Department overstated the excise and sales taxes for all domestic values because the deduction of taxes from the International Chemical Weekly (“ICW”) domestic prices was based on the gross price, when instead it should have been based on the before-tax price. Furthermore the petitioner asserts that the Department did not calculate a portion of the normal value build up associated with one of the inputs. Neither Shandong nor Jilin responded to petitioner's comments.

Shandong contends that the Department incorrectly used a single surrogate value for virgin acetic acid to value all the acetic acid inputs in its calculation of the cost of acetic anhydride production, when instead it should have valued the virgin and recovered acetic acid separately. The petitioner contends that the Department correctly applied the surrogate value of virgin acetic acid to the full quantity of acetic acid used in the production process and that Shandong ignores the distinction between “recovered” acetic acid and “recycled” or “reused” acetic acid. In its response to the petitioner's comments, Shandong argues that recovered, recycled and reused acetic acid are identical and should have the same value.

In accordance with section 735(e) of the Act, we have determined that certain ministerial errors were made in our final results margin calculations. Specifically we find that the incorrect calculation of certain taxes from the ICW domestic prices and the incorrect surrogate value of Jilin's packing labor constitute clerical errors. For a detailed discussion of all of the ministerial error allegations and the Department's analysis, see Memorandum to Susan Kuhbach, “Antidumping Duty Administrative Review of Bulk Aspirin from the People's Republic of China; Allegations of Ministerial Errors' dated March 5, 2003, which is on file in the Central Records Unit, room B-099 of the main Department building.

In accordance with 19 CFR 351.224(e), we are amending the final results of the antidumping duty administrative review of bulk aspirin from the PRC to correct these ministerial errors. However, the amended weighted-average margins are identical to the weighted-average margins in the final results (see Final Results). The weighted-average dumping margins for Jilin and Shandong are listed below:

Producer/manfacturer/exporter | Original weighted-average margin percentage | Amended results weighted-average margin percentage
Jilin Henghe Pharmaceutical Company Ltd. | 0.04 (de minimis) | 0.04 (de minimis)
Shandong Xinhua Pharmaceutical Co., Ltd. | 0.00 | 0.00

Cash Deposit Rates

The following antidumping duty deposits will be required on all shipments of bulk aspirin from the PRC entered, or withdrawn from warehouse, for consumption, effective on or after the publication date of the amended final results of this administrative review, as provided by section 751(a)(1) of the Act: (1) For Shandong and Jilin, no antidumping duty deposit will be required; (2) for merchandise exported by manufacturers or exporters not covered in this review but covered in the original less-than-fair-value investigation or a previous review, the cash deposit will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 144.02 percent, the “all others” rate established in the less-than-fair-value investigation.

These cash deposit requirements, when imposed, shall remain in effect until publication of the final results of the next administrative review.

Assessment Rates

Absent an injunction from the U.S. Court of International Trade, the Department will issue appropriate assessment instructions directly to the Customs Service within 15 days of publication of these amended final results of review.

We are issuing and publishing this determination and notice in accordance with sections 751(a)(1) and 771(i)(1) of the Act.

Dated: March 6, 2003.
Joseph A. Spetrini,
Acting Assistant Secretary for Import Administration.

[FR Doc. 03-6088 Filed 3-12-03; 8:45 am]

BILLING CODE 3510-DS-P